DEPARTMENT OF HOMELAND SECURITY

Bureau of Customs and Border Protection

Departmental Advisory Committee on Commercial Operations of the Bureau of Customs and Border Protection and Related Functions (COAC)

AGENCY: Bureau of Customs and Border Protection, Department of Homeland Security.

ACTION: Notice of meeting.

SUMMARY: This notice announces the date, time, and location for the final meeting of the eighth term of the Departmental Advisory Committee on Commercial Operations of the Bureau of Customs and Border Protection and Related Functions (COAC), and the expected agenda for its consideration.

DATES: The next meeting of the COAC will be held on Friday, September 10, 2004, 9 a.m. to 1 p.m.

ADDRESSES: The meeting of the Departmental Advisory Committee on Commercial Operations of the Bureau of Customs and Border Protection and Related Functions (COAC) will be held 9 a.m.-1 p.m. in the Adam's Mark Fountain Room, Adam's Mark Hotel, 120 Church Street, Buffalo, NY 14202; hotel ph: (716) 845-5100/fax: (716) 845-5377.

FOR FURTHER INFORMATION CONTACT: Ms. Monica Frazier, Office of the Assistant Secretary for Border and Transportation Security, Department of Homeland Security, Washington, DC 20528, telephone 571-227-3977; facsimile 571-227-1937.

SUPPLEMENTARY INFORMATION: This meeting is open to the public; however, participation in COAC deliberations is limited to COAC members, Homeland Security and Treasury Department officials, and persons invited to attend the meeting for special presentations. Since seating is limited, all persons attending this meeting should provide notice to Ms. Monica Frazier, Office of the Assistant Secretary for Border and Transportation Security, Department of Homeland Security, Washington, DC 20528, telephone 571-227-3977; facsimile 571-227-1937, no later than 2 p.m. e.s.t. on Tuesday, September 7, 2004.

Information on Services for Individuals with Disabilities: For information on facilities or services for individuals with disabilities or to request special assistance at the meeting, contact Ms. Monica Frazier, Office of the Assistant Secretary for Border and Transportation Security, Department of Homeland Security, Washington, DC 20528, telephone 571-227-3977; facsimile 571-227-1937, as soon as possible.

Draft Agenda: The COAC is expected to pursue the following agenda, which may be modified prior to the meeting:

1. MTSA Subcommittee

2. Security Subcommittee

a. Advance Cargo Information

b. WCO Security

c. C-TPAT Process Review

3. Automation Issues

a. ACE funding and development schedule

b. ACS downtime

4. International Trade Data System (ITDS)

5. Agriculture Subcommittee

6. Creation of Infrastructure Subcommittee

7. Bioterrorism Act

8. Focused Assessment Program

Dated: August 23, 2004.
C. Stewart Verdery, Jr.,
Assistant Secretary for Border and Transportation Security Policy and Planning.

[FR Doc. 04-19505 Filed 8-25-04; 8:45 am]

BILLING CODE 4410-10-P